DEPARTMENT OF THE INTERIOR

Bureau of Land Management

[ID-200-1120-DD-241A]

Notice of Public Meeting, Twin Falls District Resource Advisory Council Meeting, Idaho

AGENCY: Bureau of Land Management, Interior.

ACTION: Notice of Public Meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District and Elko District Resource Advisory Councils (RAC) will meet as indicated below.

DATES: June 19 and 20, 2008. The first day of the two-day meeting will consist of an information gathering tour of the proposed China Mountain Wind Project. The tour will begin with a one-hour presentation at 10 a.m. (MST) at Cactus Pete's Resort Casino in Jackpot, Nevada. Following the tour, there will be a brief business meeting for the Twin Falls District RAC at Cactus Pete's Resort Casino. On June 20, there will be a joint business meeting for the Twin Falls and Elko District RACs for one hour beginning at 8 a.m. and ending at 9 a.m. (MST). Each RAC will then meet separately to conduct individual District business. The Twin Falls District RAC's meeting will end no later than 4 p.m. The public comment period for the Twin Falls District RAC meeting will be from 9:15 a.m. to 9:45 a.m. The meeting will also be held at Cactus Pete's Resort Casino in Jackpot, Nevada.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. The Twin Falls District RAC business meeting agenda will include the following topics: Discussion of China Mountain Wind Energy Project tour, Jarbidge Resource Management Plan update, and Twin Falls District energy projects. Additional topics may be added and will be included in local media announcements. More information is available at http://www.blm.gov/id/st/en/res/resource_advisory.3.html. The Elko District RAC notice of this meeting was previously published.

All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: May 12, 2008.
Bill Baker,
District Manager.

[FR Doc. E8-11120 Filed 5-16-08; 8:45 am]

BILLING CODE 4310-GG-P